Proclamation 10166 of March 31, 2021

National Cancer Control Month, 2021

By the President of the United States of America

A Proclamation

Despite the incredible advancements we have made in recent years, cancer remains the second leading cause of death in the United States. Behind this statistic are millions of Americans who know the distress of receiving a cancer diagnosis, and millions more who watch family members or friends courageously fight this disease and too often succumb to it. Cancer is brutal and cruel, and I intimately understand the incalculable human toll that this disease inflicts on patients and their loved ones—a toll that strikes communities of color at disproportionately high rates.

During National Cancer Control Month, we celebrate the progress made against this disease, and we reaffirm our national commitment to preventing cancer, improving treatments and the delivery of care, and finding a cure. This includes efforts to improve cancer prevention, promote early detection, enhance treatment, and support the needs of cancer survivors and caregivers. This issue is deeply personal for me—and as President, I am committed to ending cancer as we know it.

Progress begins with helping people take steps to lower their risk for many kinds of cancer. Tobacco use remains the top cause of cancer deaths in the United States. By helping people quit smoking and limiting exposure to secondhand smoke, we can reduce cancer risk and save lives. Resources to help quit smoking can be found at SmokeFree.gov or by calling 1-800-QUIT-NOW. Eating healthy, getting regular physical activity, limiting alcohol consumption, and reducing sun exposure when the sun is at its peak can also help reduce the risk of getting cancer.

My Administration is proud to support efforts like the Centers for Disease Control and Prevention's National Comprehensive Cancer Control and the National Breast and Cervical Cancer Early Detection Programs, which help Americans in communities throughout the country get recommended cancer screenings. You can read more about these programs at cdc.gov/cancer.

My Administration is also a proud supporter of ClinicalTrials.gov, the world's largest public clinical research database that gives patients, families, health care providers, researchers, and others easy access to information on clinical studies relating to a wide range of diseases and conditions, including cancer.

This year also marks the 50th anniversary of the National Cancer Act of 1971. This landmark legislation cemented our Nation's commitment to cancer research, establishing networks of cancer centers, clinical trials, data collection systems, and advanced research, without which many breakthroughs against cancer in recent years would not have occurred.

In addition, the Cancer Moonshot, which former President Obama and I initiated in 2016, accelerated progress in cancer prevention, treatment, and cures, including by funding six Implementation Science Centers in cancer control. These centers were created to expand the use of proven cancer prevention and early detection strategies, especially among underserved, rural, and minority populations, which often have lower rates of cancer screening and thus find cancer at more advanced stages. You can read about these important research programs and breakthroughs by visiting cancer.gov.

As part of the Cancer Moonshot, we also established the Oncology Center of Excellence at the Food and Drug Administration to drive faster and better integrated development of drugs, medical devices, and biological and other products to tackle this devastating disease. Find out more at fda.gov.

This year, we must be especially mindful of the significant disruptions the COVID-19 pandemic is bringing to cancer care—delaying routine screening, diagnosis, and therapy. I urge Americans not to delay recommended screenings, doctor's visits, and treatments. Because of the Affordable Care Act, most health insurance plans must cover a set of preventive services with no out-of-pocket costs, including many cancer screenings. In response to the COVID-19 pandemic, my Administration also announced a special enrollment period for the Health Insurance Marketplace, allowing uninsured individuals and families to sign up for health coverage and gain these protections through August 15th. I encourage you to visit healthcare.gov to explore your eligibility and get covered today.

Our Nation has made extraordinary advances in the fight against cancer. Still, much work remains to be done. We owe it to every person who has lost their battle with this disease, every person living with this disease, and every person who may one day contract it, to continue working tirelessly to defeat it. During National Cancer Control Month, let us renew our efforts to save lives and spare suffering by accelerating our work to end cancer as we know it.

NOW, THEREFORE, I, JOSEPH R. BIDEN JR., President of the United States of America, do hereby proclaim April 2021 as National Cancer Control Month. I encourage citizens, government agencies, private businesses, nonprofit organizations, and other interested groups to join in activities that will increase awareness of what Americans can do to prevent and control cancer.

IN WITNESS WHEREOF, I have hereunto set my hand this thirty-first day of March, in the year of our Lord two thousand twenty-one, and of the Independence of the United States of America the two hundred and forty-fifth.

[FR Doc. 2021-07166

Filed 4-5-21; 8:45 am]

Billing code 3295-F1-P